DEPARTMENT OF HEALTH AND HUMAN SERVICES

Centers for Medicare & Medicaid Services

[CMS-3293-N]

Medicare Program; Physician Compare Town Hall Meeting, February 24, 2014

AGENCY: Centers for Medicare & Medicaid Services (CMS), HHS.

ACTION: Notice of meeting.

SUMMARY: This notice announces a Town Hall meeting to solicit input from stakeholders on the future of the Physician Compare Web site. Stakeholders will be able to participate in the session in person and via telephone. Following a short initial presentation, the meeting agenda will provide the opportunity for on-site session attendees to give brief three-minute comments on the issues of interest. As time allows, telephone participants will also have the opportunity to provide brief three-minute comments on these issues. The meeting is open to the public, but attendance is limited to space available.

DATES: Registration Date: All participants must register by Monday, February 17, 2014. Requests for special accommodations must be received no later than 5:00 p.m., Eastern Standard Time (e.s.t.) on Friday, February, 21, 2014.

Meeting Date: Monday, February 24, 2014, from 1:00 p.m. to 5:00 p.m. e.s.t.; check-in will begin at 12:00 p.m. e.s.t.

ADDRESSES: Main auditorium (Central building) at the Centers for Medicare & Medicaid Services, 7500 Security Boulevard, Baltimore, MD 21244.

Written Questions or Statements: Any interested party may send written comments by mail or electronically. We will accept written testimony, questions, or other statements, not to exceed two single-spaced, typed pages, before the meeting, and up until March 3, 2014, at 5:00 p.m. e.s.t. Send written testimony, questions, or other statements to: Division of Electronic and Clinician Quality (DECQ), Mailstop S3-02-01, Centers for Medicare & Medicaid Services, 7500 Security Boulevard, Baltimore Maryland 21244-1850, Attention: Rashaan Byers or Regina Chell, or, PhysicianCompare@Westat.com.

FOR FURTHER INFORMATION CONTACT: Rashaan Byers, (410) 786-2305, rashaan.byers@cms.hhs.gov, or Regina Chell, (410) 786-6551, regina.chell@cms.hhs.gov.

You may also send inquires about this meeting via email to PhysicianCompare@Westat.com.

SUPPLEMENTARY INFORMATION:

I. Background

Section 10331(a) of the Patient Protection and Affordable Care Act (Pub. L. 111-148, enacted on March 23, 2010, as amended by the Health Care and Education Reconciliation Act of 2010, Public Law 111-15, and collectively known as the Affordable Care Act) requires by January 1, 2013, and with respect to reporting periods that begin no earlier than January 1, 2012, that CMS develop a plan for making publicly available through Physician Compare information on physician performance that provides comparable information on quality and patient experience measures. We met this requirement ahead of the deadline, and continue to build on the plan through rulemaking.

Specifically, we began finalizing the first phase of the plan in the 2012 Physician Fee Schedule (PFS) final rule with comment period (76 FR 73417) and the 2013 PFS final rule with comment period (77 FR 69166) to add quality data to Physician Compare via a phased approach. According to this plan, we will post the first set of measure data on the site in early 2014, reflecting data collected in program year 2012, if technically feasible. These data will include Physician Quality Reporting System (PQRS) Group Practice Reporting Option (GPRO) measures for group practices and Accountable Care Organizations (ACOs) collected via the web interface. In the 2014 PFS final rule with comment period (78 FR 74229), we further built on the plan for public reporting including PQRS GPRO Registry and EHR measures in addition to a larger pool of web interface measures, as well as Clinician and Group Consumer Assessment of Healthcare Providers and Systems (CG-CAHPS) measures for certain group practices and ACOs. We also finalized public reporting of 2014 individual quality measures in calendar year (CY) 2015 as specified in the 2014 PFS rule, if technically feasible.

Since Physician Compare's inception in 2010, we have been working continually to enhance the site and its functionality, improve the information available, and include more and increasingly useful information about physicians and other healthcare professionals who take part in Medicare. This effort, along with the addition of quality measures on the site, will help it serve its two-fold purpose:

• To provide information for consumers to encourage informed healthcare decisions; and,

• To create explicit incentives for physicians to maximize performance.

In an effort to maximize Physician Compare and make it as useful and beneficial as possible for consumers, we are seeking input regarding the types of information that could potentially be included on Physician Compare in the future. This Town Hall meeting is an opportunity to provide feedback and suggestions regarding the future of public reporting on Physician Compare. We are looking to receive input on questions such as,

• What types of measures could be most useful to consumers?

• What measures would most accurately identify quality care?

• What measures would most accurately/completely represent the various Medicare specialties?

• What non-CMS measures should potentially be considered for Physician Compare and what are the logistical means of obtaining these measure data?

• Is it appropriate to reduce the length of the measure preview period from 30 days to 2 weeks?

We are also seeking input regarding the inclusion of additional information that may be of interest to consumers. Specifically, we are looking to receive input on questions such as,

• Is there additional Board Certification information we should consider including on Physician Compare?

• What other types of quality improvement programs or quality initiatives should we potentially consider publishing participation information for?

• Are there additional medical qualifications we should consider publishing on Physician Compare?

• Is there additional healthcare professional or group practice information we should include on Physician Compare, such as office hours or Web site addresses, etc.?

For all of the above questions, we also seek input on accessing the most up-to-date and accurate data sources for this information.

II. Meeting Format

The initial portion of the meeting will be a short background presentation on the Physician Compare Web site and public reporting plan to date, followed by a presentation setting out the key issues of interest for the day. The remainder of the meeting will be reserved for individual statements from interested parties.

Time for participants to make a statement will be limited according to the number of registered participants. Therefore, individuals who wish to make a statement must send an email to PhysicianCompare@Westat.com as soon as possible to register for the meeting and to sign up to make a statement. Participants will be permitted to speak in the order in which they sign up starting with participants who attend in person and followed by participants who attend via telephone. Comments from individuals not registered to speak will be heard after scheduled statements, only if time permits. Written submissions will also be accepted through March 3, 2014 at 5:00 p.m. e.s.t.

III. Registration Instructions

The Division of Electronic and Clinician Quality (DECQ) within the Center for Clinical Standards and Quality (CCSQ) of CMS is coordinating the meeting registration for the Town Hall Meeting. Although there is no registration fee, individuals must register to attend. You may register by sending an email to PhysicianCompare@Westat.com. Please use the subject line “Physician Compare Town Hall Registration” and include your name, address, telephone number, email address, and, if available, fax number. Indicate if you wish to participate in person or via telephone. You will receive a registration confirmation with instructions for your arrival at the CMS complex or for accessing the meeting via telephone. If capacity has been reached, you will be notified that the meeting has reached capacity.

Individuals requiring sign language interpretation or other special accommodations must send an email to PhysicianCompare@Westat.com indicating the needed accommodations by the date listed in the DATES section of this notice.

IV. Security, Building, and Parking Guidelines

Because this meeting will be located on federal property, for security reasons, any persons wishing to attend this meeting must register by close of business on the date specified in the DATES section of this notice. Individuals who have not registered in advance will not be allowed to enter the building to attend the meeting. Seating capacity is limited to the first 250 registrants.

The on-site check-in for visitors starts at 12:00 p.m. e.s.t. on the day of the meeting. Please allow sufficient time to go through the security checkpoints. It is suggested that you arrive at 7500 Security Boulevard no later than 12:30 p.m. so that you will be able to arrive promptly at the meeting by 1:00 p.m. All items brought to the building, whether personal or for the purpose of demonstration or to support a presentation, are subject to inspection.

Security measures will include inspection of vehicles, inside and out, at the entrance to the grounds. Visitors to the complex are required to show a valid U.S. Government issued photo identification, preferably a driver's license, at the time of entry. In addition, all persons entering the building must pass through a metal detector. All items brought to CMS, including personal items such as laptops, cell phones, smart phones, tablets, etc. are subject to physical inspection.

Authority: (Catalog of Federal Domestic Assistance Program No. 93.773, Medicare—Hospital Insurance; and Program No. 93.774, Medicare—Supplementary Medical Insurance Program)

Dated: January 23, 2014.
Marilyn Tavenner,
Administrator, Centers for Medicare & Medicaid Services.

[FR Doc. 2014-01642 Filed 1-28-14; 8:45 am]

BILLING CODE 4120-01-P